DEPARTMENT OF THE TREASURY

Customs Service

Announcement of a National Customs Automation Program Test Regarding Submission to Customs of Electronic Air Cargo Manifest Information

AGENCY: U.S. Customs Service, Department of the Treasury.

ACTION: General notice.

SUMMARY: This notice announces Customs plan to conduct a prototype test program under the National Customs Automation Program that will permit qualified air carriers to submit electronic air cargo manifest information to Customs prior to arrival of the aircraft in the United States, and will eliminate the requirement that a Customs Form 7509 (Air Cargo Manifest) be submitted upon arrival. Electronic filing of air cargo manifest information will permit Customs to electronically review the data prior to arrival of the carrier in the U.S, facilitate cargo control and processing, and provide for the electronic release of cargo. This notice solicits public participation in the test program in accordance with the eligibility and procedural requirements set forth in this document, and invites comments concerning any aspect of the planned test.

EFFECTIVE DATES: The test will commence no sooner than January 2, 2001. Comments concerning the eligibility standards, selection criteria, procedural requirements, or information submission requirements must be received on or before November 1, 2000.

ADDRESSES: Written comments (preferably in triplicate) may be submitted to and inspected at the Regulations Branch, Office of Regulations and Rulings, U.S. Customs Service, 1300 Pennsylvania Avenue, NW., 3rd Floor, Washington, DC 20229.

FOR FURTHER INFORMATION CONTACT: For operational or policy matters: Sandra Hasegawa, Program Officer, (202) 927-0983; John Considine, Chief, Manifest & Conveyance, (202) 927-0042. For systems or automation matters: Assigned Client Representative or Michael Mohr, Client Representative, (703) 921-7072. For legal matters: Larry L. Burton, Attorney Advisor (202) 927-1287.

SUPPLEMENTARY INFORMATION:

Background

Title VI of the North American Free Trade Agreement Implementation Act (the Act), Public Law 103-182, 107 Stat. 2057 (December 8, 1993), contains provisions pertaining to Customs Modernization (107 Stat. 2170). Subtitle B of 3 title VI establishes the National Customs Automation Program (NCAP), an automated and electronic system for the processing of commercial importations. Section 631 of the Act creates sections 411 through 414 of the Tariff Act of 1930 (19 USC 1411 through 1414), which define and list the existing and planned components of the NCAP (section 411), establish program goals (section 412), provide for the implementation and evaluation of the program (section 413), and provide for the remote location filing of entries (section 414). Requirements for conducting an approved test program or procedure designed to evaluate planned components of the NCAP are set forth in § 101.9 of the Customs Regulations (19 CFR 101.9).

I. Description of Test Program

Air Cargo Manifest

Section 122.42(c) of the Customs Regulations (19 CFR 122.42(c)), requires that the aircraft commander of an aircraft arriving in the United States from a foreign area, or his agent, must deliver upon arrival any required forms to the Customs officer at the place of entry. Section 122.48 of the Customs Regulations (19 CFR 122.48) provides that an air cargo manifest is required for all cargo on board a flight arriving in the United States from a foreign area, except for cargo arriving from and departing for a foreign country on the same through flight. Section 122.48(c) provides that the air cargo manifest must be on the Customs Form (CF) 7509.

Electronic Submission of Air Cargo Manifest Information

In an attempt to facilitate cargo processing and release, for the past several years Customs has accepted electronic air cargo manifest information from importing carriers. In such circumstances, however, submission of the paper CF 7509 was still required upon the carrier's arrival in the United States, even though an electronic submission of manifest data had already been submitted to Customs.

In a more comprehensive attempt to facilitate the control, processing and release of air cargo, Customs will permit, via this test program, participating Air Automated Manifest System (AAMS) air carriers who meet the electronic and procedural requirements set forth in this document to electronically file air cargo manifest information with Customs prior to the aircraft's arrival in the United States and will eliminate the requirement that a CF 7509 be submitted. For the duration of this test period, § 122.48(c) will be suspended for test program participants.

It is anticipated that the test program will run for approximately one year. In the event, however, that Customs determines that a longer test program period is required, the test program will continue to run, uninterrupted, until it is concluded by notice in the Federal Register.

Customs Objectives

Customs objectives in conducting this test program are:

1. To work with the trade community, government agencies, and other parties impacted by this program in the implementation and evaluation of the test program; and,

2. To gain experience from the test program relating to the design of automated systems, the development of operational procedures that facilitate cargo release (i.e., communication, cargo movement), and whether participants can meet the test program requirements of transmitting timely, complete and accurate manifest data.

Regulatory Provision Suspended

As noted above, § 122.48(c), pertaining to the presentation of an air cargo manifest on the CF 7509, will be suspended during this test. Participants generally will not be required to submit a CF 7509 to Customs or have a copy on board the aircraft, but must be able to provide Customs with required information electronically or otherwise on demand. Participation in this test program does not preclude compliance with the applicable requirements of other government agencies as they relate to cargo manifest information. A CF 7507 General Declaration is still required and must be presented to Customs upon arrival at the port of entry. The CF 7507 is also required for flights proceeding in-land on a permit-to-proceed.

II. Test Program Eligibility Criteria

To be eligible for participation in the test program, an air carrier must demonstrate the following:

1. A carrier must be a qualified AAMS carrier. A qualified AAMS carrier has been tested and certified by Customs to possess the technical capability to transmit and receive all types of AAMS data. Technical requirements for AAMS carriers are set forth in the Customs publication entitled “Customs Automated Manifest Interface Requirements—“Air” (CAMIR). Those carriers that are not currently AAMS qualified, and wish to be, should submit a written request to become an AAMS participant to the Customs Client Representative Branch closest to the applicant's operational location. A list of Customs Client Representative offices may be obtained from United States Customs Service, Office of Information and Technology, Client Representative Branch, 7501 Boston Boulevard, Springfield, VA 22153, (703) 921-7500;

2. A qualified AAMS carrier must have completed a period of dual mode testing at a designated AAMS-automated Customs port. Dual mode testing requires that a carrier submit both a CF 7509 and an electronic transmission of air cargo manifest data to the designated AAMS-automated Customs port for a specified period of time. A carrier is required to participate in dual-mode testing at a designated AAMS-automated Customs port for a period generally not to exceed 45 days, although the time may be extended at the discretion of the port director; and

3. A carrier must possess the ability to electronically transmit to Customs complete air cargo manifest information, and any other required information, for all their flights arriving at the designated AAMS-automated Customs port, including in-bond cargo imported by a non-automated air carrier.

III. Test Program Application and Selection Process

Application Process

An air carrier that satisfies the eligibility criteria set forth in this document may apply to be a participant in this test program. Customs will accept applications from eligible air carriers for the duration of the test program. A written request to be considered for participation in the test program should be sent to the air carrier's designated Customs Client Representative (see above). The request must designate the AAMS-automated Customs port(s) to which the electronic air cargo manifest information will be transmitted, indicate the means by which the electronic transmissions will be sent (i.e. direct line, Service Center, etc.), designate a point of contact and telephone number within the applicant's organization, and be signed by an authorized official. Upon review of the application, Customs will notify the applicant in writing as to whether the request to be a test program participant has been approved or denied. If denied, Customs will issue written notice to the applicant that sets forth the basis for the denial and informs the applicant of the right to reapply after any deficiencies identified in the notice of denial have been corrected.

Participant Selection

Any importing air carrier that applies for permission to participate in the test program, and meets the eligibility requirements described above, will be given due consideration by Customs. Selection will be based on the extent of an applicant's electronic interface capabilities and the ability to meet the technical user requirements identified in the CAMIR as well as the requirements set forth in this notice.

Participation in this test program will not be considered confidential information, and the identity of participants will be made available to the public upon written request.

IV. Test Program Procedures

Program procedures will be closely coordinated with all participating and affected parties. The following procedures apply to all participant air carriers and will be in effect for the duration of the test program:

1. All carriers must transmit full air cargo manifest data to AAMS at least one (1) hour prior to aircraft arrival. If this condition cannot be met, a paper manifest must be made available before cargo may be moved.

2. Copies of air waybills must be presented to Customs, on demand, for enforcement purposes.

3. All carriers must transmit specified quantities for cargo at the lowest deliverable level.

4. Full manifest data must be submitted to Customs by all air carriers and is to include all house air waybill information, including shipper/consignee information, and complete address data as shown on the paper air waybill.

5. Consolidations with only one house air waybill must be transmitted as a master air waybill along with a house air waybill. The carrier may not elect to send this information in as a simple air waybill for expediency purposes.

6. House air waybill numbers must be accurate. If an alpha prefix appears on the house air waybill as part of the air waybill number, this information must be included in the electronic transmission. The carrier may not elect to eliminate the alpha prefix from house air waybills when sending the electronic information.

7. If cargo is being transferred to an automated deconsolidator, the carrier may nominate the deconsolidator to complete the manifest information. If the cargo is being transferred to a non-automated deconsolidator, the carrier will be held responsible for the transmission of full house air waybill information.

8. Carriers must have electronic authorization from Customs to release cargo. If systemic problems preclude an electronic authorization for release, a paper request for release is required. A signed Customs Form 3461 alone will not be an authorization for release for the purposes of this test program.

9. Cargo may not be transferred without an authorization for transfer from Customs via the electronic system. Blanket permits to transfer will not be allowed during the test period for test participants.

10. If for any reason the electronic system becomes inoperative or Customs is unable to receive electronic manifest information, parties will be required to submit a paper air cargo manifest on Customs Form 7509 or any other Headquarters pre-approved document. If for any reason the Air Automated Manifest System, Cargo Selectivity, or other entry related automated system is inoperative and electronic cargo release and selectivity is not possible, a Customs port director, after a 2 hour waiting period, will implement procedures to allow for the non-electronic release of cargo until such time as electronic systems are again operative. The port director will ensure that any of the appropriate information on entries released under these manual procedures is properly entered into the electronic system as soon as possible.

V. Suspension From the Test Program and Administrative Review

Suspension, Penalties and Liquidated Damages

A test program participant's failure to comply with any of the procedural requirements or operational standards set forth in this document, or failure to adhere to all applicable laws and regulations, may result in the temporary or permanent suspension of the air carrier from the test program, and may subject the air carrier to penalties, liquidated damages, or other administrative sanctions.

Written Notice

Except in instances of willfulness on the part of the test program participant, or where public health, interest or safety is at issue, the port director at the designated AAMS-automated Customs port will issue a written notice of proposed suspension to the test program participant. The notice will inform the air carrier of the following:

The basis for the proposed action and all applicable terms and conditions;

2. The right to seek administrative review of the action, pursuant to the terms set forth in this document;

3. That any action will be held in abeyance for a period of 10 calendar days from the date of the notice or, if the test program participant timely seeks administrative review of the matter pursuant to the terms set forth in this document, pending conclusion of Customs review of the matter at the port level; and

4. That failure to seek administrative review of this matter pursuant to the terms set forth in this document will constitute acceptance of the terms and conditions set forth in the notice, will preclude any further administrative review of the matter, and the proposed suspension will automatically go into effect at midnight of the 10th calendar day from the date of the notice.

Where there is willfulness on the part of the test program participant, or where public health, interest or safety is concerned, suspension from the test program may go into effect immediately upon the issuance, by the port director to the test program participant, of an electronic notice setting forth the basis for the immediate suspension and any other related information. Within 5 calendar days from the date the electronic notice was issued, Customs will issue a written notice of immediate suspension to the test program participant. A notice of immediate action, whether in an electronic or paper format, will provide the same type of information as contained in a notice of proposed suspension. An immediate suspension will remain in effect pending conclusion of any administrative review of the action by Customs.

Administrative Review

To seek administrative review of a suspension from the test program, the air carrier must submit documentation to the port director of the Customs port that issued the suspension notice within 10 calendar days from the date the notice of proposed suspension or the electronic notice of immediate suspension was issued. The documentation must establish, to the satisfaction of Customs, that the alleged deficiencies which led to the action did not occur or have been corrected.

The port director will review the documentation and issue a written final notice to the test program participant within 30 calendar days from the date the documentation was received by Customs, unless this time period is extended upon due notice. The final notice will either impose a suspension, effective upon the date of the final notice, or provide notice that no suspension will be imposed.

In the case of an air carrier seeking administrative review of an immediate suspension, the same documentation requirements set forth above apply. The port director will review the documentation and issue a written final notice to the test program participant within 30 calendar days from the date the documentation was received by Customs, unless this time period is extended upon due notice. The final notice will inform the test program participant that either the suspension has been affirmed, or modified in its terms and conditions, or the suspension has been revoked, effective upon the date of the final notice.

If a suspension is imposed, the suspended test program participant may seek a second level of administrative review and appeal the final notice of suspension by submitting documentation to the Assistant Commissioner, Office of Field Operations, within 10 calendar days from the date of the final notice.

The Assistant Commissioner, Office of Field Operations, or his designee, will issue to the suspended test program participant a written decision within 30 calendar days from the date the documentation was received, unless this time period is extended upon due notice. The decision will affirm, modify, or revoke the final notice of suspension and will set forth the basis for the determination, as well as all other applicable terms and conditions.

VI. Test Evaluation Criteria

Once participants are selected, Customs and the participants will meet publicly or in an electronic forum to review the comments received concerning the methodology of the test program or procedures, complete procedures in light of those comments, form problem-solving teams, and establish baseline measures and evaluation methods and criteria. Evaluations of the test program will be conducted and the final results will be published in the Federal Register and Customs Bulletin, as required by section 101.9(b), Customs Regulations.

The following evaluation methods and criteria have been suggested:

1. Establish baseline measurements through questionnaires to the trade and Customs personnel; and

2. Analyze statistical data obtained through the AAMS.

Preliminary evaluation criteria for Customs and other government agencies include workload impact (workload shifts, cycle time, etc.), policy and procedural accommodation, and trade compliance impact. Possible criteria for the trade participants include cost benefits and operational efficiency.

Dated: September 27, 2000.
Bonni G. Tischler,
Assistant Commissioner, Office of Field Operations.

[FR Doc. 00-25182 Filed 9-29-00; 8:45 am]

BILLING CODE 4820-02-P